DEPARTMENT OF TRANSPORTATION

Surface Transportation Board

[Docket No. EP 552 (Sub-No. 19)]

Railroad Revenue Adequacy—2014 Determination

AGENCY: Surface Transportation Board, DOT.

ACTION: Notice of decision.

SUMMARY: On September 8, 2015, the Board served a decision announcing the 2014 revenue adequacy determinations for the Nation's Class I railroads. Four carriers, BNSF Railway Company, Grand Trunk Corporation, Norfolk Southern Combined Railroad Subsidiaries, and Union Pacific Railroad Company, were found to be revenue adequate.

DATES: Effective Date: This decision is effective on September 8, 2015.

FOR FURTHER INFORMATION CONTACT: Pedro Ramirez, (202) 245-0333. Assistance for the hearing impaired is available through Federal Information Relay Service (FIRS) at (800) 877-8339.

SUPPLEMENTARY INFORMATION: The Board is required to make an annual determination of railroad revenue adequacy. A railroad is considered revenue adequate under 49 U.S.C. 10704(a) if it achieves a rate of return on net investment equal to at least the current cost of capital for the railroad industry for 2014, determined to be 10.65% in Railroad Cost of Capital—2014, EP 558 (Sub-No. 18) (STB served August 7, 2015). This revenue adequacy standard was applied to each Class I railroad. Four carriers, BNSF Railway Company, Grand Trunk Corporation, Norfolk Southern Combined Railroad Subsidiaries, and Union Pacific Railroad Company, were found to be revenue adequate for 2014.

The decision in this proceeding is posted on the Board's Web site at www.stb.dot.gov. Copies of the decision may be purchased by contacting the Office of Public Assistance, Governmental Affairs, and Compliance at (202) 245-0238. Assistance for the hearing impaired is available through FIRS at (800) 877-8339.

This action will not significantly affect either the quality of the human environment or the conservation of energy resources.

Decided: September 3, 2015.
By the Board, Chairman Elliott, Vice Chairman Begeman, and Commissioner Miller.
Kenyatta Clay,
Clearance Clerk.

[FR Doc. 2015-22770 Filed 9-9-15; 8:45 am]

BILLING CODE 4915-01-P